NATIONAL AERONAUTICS AND SPACE ADMINISTRATION

[Notice: (13-081)]

NASA Advisory Council; Information Technology Infrastructure Committee; Meeting

AGENCY: National Aeronautics and Space Administration.

ACTION: Notice of meeting.

SUMMARY: In accordance with the Federal Advisory Committee Act, Public Law 92-463, as amended, the National Aeronautics and Space Administration announce a meeting for the Information Technology Infrastructure Committee (ITIC) of the NASA Advisory Council (NAC). This Committee reports to the NAC.

DATES: Tuesday, July 30, 2013, 8:30 a.m.-5:30 p.m.; and Wednesday, July 31, 2013, 8:30 a.m.-10:00 a.m., Local Time.

ADDRESSES: NASA Headquarters, Room 7Q48, 300 E Street SW., Washington, DC 20546.

FOR FURTHER INFORMATION CONTACT: Ms. Deborah Diaz, ITIC Executive Secretariat, NASA Headquarters, 300 E Street SW., Washington, DC 20546, Phone: (202) 358-2582.

SUPPLEMENTARY INFORMATION: The meeting will be open to the public up to the seating capacity of the room. This meeting is also available telephonically and by WebEx. You must use a touch tone phone to participate in this meeting. Any interested person may call the USA toll free conference call number (877) 917-5780 to telephonically join the meeting on either day. A conference operator will request the passcode of “NASANACIT”. Callers must provide their name and organization to join the teleconference. The WebEx link for Tuesday, July 30, 2013, is https://nasa.webex.com/, meeting number 993 076 160, and password OCIO1234! The WebEx link for Wednesday, July 31, 2013, is https://nasa.webex.com/, meeting number 996 415 641, and password OCIO1234!

The agenda topics for the meeting will include:

• Budget Request and Managing thru Sequester

• Governance/Role of the Chief Information Officer

• Gene Lab

• New Developments in Space Communication

• Space Launch System (SLS) System Engineering

• Science Data

It is imperative that the meeting be held on this date to accommodate the scheduling priorities of the key participants. Attendees will be required to sign a register and to comply with NASA security requirements, including the presentation of a valid picture ID to Security before access to NASA Headquarters. Foreign nationals attending this meeting will be required to provide a copy of their passport and visa on addition to providing the following information no less than 10 working days prior to the meeting: Full name; gender, date/place of birth; citizenship; visa information (number, type, expirations date); passport information (number, country, expiration date); employer/affiliation information (name of institution, address, country, telephone); title/position of attendee; and home address via fax (202) 358-3017, noting at the top of the page, “Public Admission to the NAC ITIC meeting.” U.S. citizens and Permanent Residents (green card holders) are requested to their name and affiliation 3 working days prior to the meeting. For security questions, please call Brenda Maxwell at (202) 358-4616.

Patricia D. Rausch,
Advisory Committee Management Officer, National Aeronautics and Space Administration.

[FR Doc. 2013-16912 Filed 7-15-13; 8:45 am]

BILLING CODE 7510-13-P